DEPARTMENT OF THE INTERIOR

Bureau of Land Management

[CO-935-1430-ET; COC-23653]

Notice of Proposed Extension of Withdrawal; Opportunity for Public Meeting; Colorado

December 6, 2001.

AGENCY: Bureau of Land Management, Interior.

ACTION: Notice.

SUMMARY: The Department of Agriculture, Forest Service, proposes to extend Public Land Order No. 6311 for a 20-year period. This order withdrew public lands from operation of the public land laws, including location and entry under the U.S. mining laws, to protect a Forest Service administrative site. The land has been and remains open to mineral leasing. This notice also gives an opportunity to comment on the proposed action and to request a public meeting.

DATES: Comments and requests for a public meeting must be received by April 15, 2002.

ADDRESSES: Comments and meeting requests should be sent to the Colorado State Director, 2850 Youngfield Street, Lakewood, Colorado 80215-7093.

FOR FURTHER INFORMATION CONTACT: Doris E. Chelius at 303-239-3706.

SUPPLEMENTARY INFORMATION: The Department of Agriculture, Forest Service, has requested that Public Land Order No. 6311 be extended for another 20-year period. This withdrawal was made to protect constructed buildings and storage facilities at the Rifle District Office. This withdrawal will expire August 10, 2002.

The withdrawal is for the Fravert Administrative Site which is used in management of the White River National Forest. The withdrawal comprises 4.84 acres of public land described as lot 1 in Section 8, T. 6 S., R. 93 W., 6th Principal Meridian in Garfield County .

For a period of 90 days from the date of publication of this notice, all persons who wish to submit comments, suggestions, or objections in connection with the proposed extension, or to request a public meeting may present their views in writing to the Colorado State Director at the address shown above.

Notice is hereby given that an opportunity for a public meeting is afforded in connection with this proposed extension. Any interested persons who desire a public meeting for the purpose of being heard on this proposed action should submit a written request to the Colorado State Director within 90 days from the date of publication of this notice. If the authorized officer determines that a public meeting will be held, a notice of the time and place will be published in the Federal Register at least 30 days prior to the scheduled date of the meeting.

This extension will be processed in accordance with the regulations set forth in 43 CFR 2310.4.

Jenny L. Saunders,
Realty Officer.

[FR Doc. 02-3545 Filed 2-12-02; 8:45 am]

BILLING CODE 3410-11-P